DEPARTMENT OF COMMERCE

International Trade Administration

[C-122-848]

Preliminary Results of Countervailing Duty Expedited Review: Hard Red Spring Wheat From Canada

AGENCY: Import Administration, International Trade Administration, Department of Commerce.

ACTION: Notice of preliminary results of countervailing duty expedited review.

SUMMARY: The Department of Commerce is conducting an expedited review of the countervailing duty order on hard red spring wheat from Canada for the period August 1, 2001, through July 31, 2002. The Department preliminarily determines that countervailable subsidies were not provided to Richelain Farms. Interested parties are invited to comment on these preliminary results.

EFFECTIVE DATE: October 21, 2004.

FOR FURTHER INFORMATION CONTACT: Daniel J. Alexy or Stephen Cho, AD/CVD Operations Office I, Import Administration, International Trade Administration, U.S. Department of Commerce, 14th Street and Constitution Avenue, NW., Washington, DC 20230; telephone: (202) 482-1540 or (202) 482-3798.

SUPPLEMENTARY INFORMATION:

Petitioner

The petitioner is the North Dakota Wheat Commission, one of the participating petitioners in the investigation.

Period of Review

The period of review for this expedited review is the same period as the investigation: August 1, 2001, to July 31, 2002, which coincides with the fiscal year of the Canadian Wheat Board (“CWB”). See 19 CFR 351.204(b)(2); 19 CFR 351.214(k)(3)(i).

Background

On September 5, 2003, the Department of Commerce (“the Department”) published the Final Affirmative Countervailing Duty Determinations: Certain Durum Wheat and Hard Red Spring Wheat from Canada (68 FR 52747), and on October 23, 2003, the Department published the countervailing duty order on Hard Red Spring Wheat (“HRSW”) (68 FR 60642). On November 18, 2003, the Department received a request from Richelain Farms (“Richelain”) to conduct an expedited review of the HRSW countervailing duty order. Richelain, a company that was not selected for individual examination during the investigation, made this request pursuant to 19 CFR 351.214(k).

On December 31, 2003, the Department initiated the expedited review. Hard Red Spring Wheat From Canada: Initiation of Expedited Review of the Countervailing Duty Order (“Initiation Notice”) (68 FR 75490). We sent questionnaires to Richelain Farms and the Government of Canada on February 13, 2004. We received questionnaire responses from Richelain and the Government of Canada on March 25, 2004. On June 3 and 4, and August 26, 2004, we verified Richelain's questionnaire responses. On June 24, 2004, the Department postponed the deadline for the preliminary determination. See Hard Red Spring Wheat from Canada: Notice of Extension of Time Limit for Countervailing Duty Expedited Review, 69 FR 35329.

Scope of Review

For purposes of this expedited review, the products covered are all varieties of hard red spring (“HRSW”) wheat from Canada. This includes, but is not limited to, varieties commonly referred to as Canada Western Red Spring, Canada Western Extra Strong, and Canada Prairie Spring Red. The merchandise subject to this investigation is currently classifiable under the following Harmonized Tariff Schedule of the United States (“HTSUS”) subheadings: 1001.90.10.00, 1001.90.20.05, 1001.90.20.11, 1001.90.20.12, 1001.90.20.13, 1001.90.20.14, 1001.90.20.16, 1001.90.20.19, 1001.90.20.21, 1001.90.20.22, 1001.90.20.23, 1001.90.20.24, 1001.90.20.26, 1001.90.20.29, 1001.90.20.35, and 1001.90.20.96. This investigation does not cover imports of wheat that enter under the subheadings 1001.90.10.00 and 1001.90.20.96 that are not classifiable as hard red spring wheat. Although the HTSUS subheadings are provided for convenience and customs purposes, our written description of the scope of this proceeding is dispositive.

Verification

In accordance with 19 CFR 351.214(k)(3)(iv), we verified information submitted by respondent Richelain. See Verification of Richelain Farms in the Countervailing Duty Expedited Review of Hard Red Spring Wheat from Canada dated October 8, 2004 (“Verification Report”). This verification was concluded on August 26, 2004, in Quebec, Canada.

Preliminary Results of Expedited Review

The Canadian Wheat Board (“CWB”) represents Western Canadian wheat producers who want to sell their wheat in the global wheat market. The CWB enjoys certain powers and rights similar to those of government agencies; under the Canadian Wheat Board Act, the CWB is a single-desk seller of all “Western Division” grain. According to the Canada Transportation Act, “Western Division” means the part of Canada lying west of the meridian passing through the eastern boundary of the City of Thunder Bay, including the whole of the Province of Manitoba.

In the investigation, we determined that the CWB benefitted from two countervailable subsidies programs: “Provision of Government-Owned and Leased Railcars” and “Comprehensive Financial Risk Coverage: The Borrowing, Lending, and Initial Payment Guarantees.” In its questionnaire response, Richelain, which is located in Quebec, reported that it never benefitted from the subsidies programs found countervailable in the investigation. Furthermore, Richelain reported that it has never purchased or exported CWB wheat, and that it has no business relationship with the CWB.

At verification, the Department did not find any evidence that Richelain received subsidies from the programs found countervailable in the investigation. The Department also found no indication of any relationship between Richelain and the CWB, or that Richelain exported CWB-sourced wheat to the United States. See Verification Report. Accordingly, the Department preliminarily determines that Richelain has not benefitted from any of the investigated subsidies.

In accordance with 19 CFR 351.221(b)(4)(i), the calculated individual subsidy rate for Richelain, the only respondent subject to this expedited review, is zero. Accordingly, pursuant to 19 CFR 351.214(k)(3)(iv), we preliminarily determine that Richelain should be excluded from the countervailing duty order.

Public Comment

Pursuant to 19 CFR 351.309, interested parties may submit written comments in response to these preliminary results. Case briefs must be received by the Department within 30 days after the date of publication of this notice, and rebuttal briefs, limited to arguments raised in case briefs, must be received no later than five days after the time limit for filing case briefs. Parties who submit argument in this proceeding are requested to submit with the argument: (1) A statement of the issue, and (2) a brief summary of the argument. Case and rebuttal briefs must be served on interested parties in accordance with 19 CFR 351.303(f).

In accordance with section 774 of the Act, we will hold a public hearing, if requested, to afford interested parties an opportunity to comment on arguments raised in case or rebuttal briefs. Interested parties who wish to request a hearing, or to participate if one is requested, must submit a written request to the Assistant Secretary for Import Administration, U.S. Department of Commerce, Room 1870, within 30 days of the date of publication of this notice. See 19 CFR 351.310(c). Requests should contain (1) the party's name, address, and telephone number, (2) the number of participants, and (3) a list of the issues to be discussed. At the hearing, each party may make an affirmative presentation only on issues raised in that party's case brief and may make rebuttal presentations only on arguments included in that party's rebuttal brief. See 19 CFR 351.310(c).

Interested parties that seek access to business proprietary information must submit applications for disclosure under administrative protective orders in accordance with 19 CFR 351.305. The Department will include the results of its analysis of issues raised in any case or rebuttal briefs in the final results of this expedited review.

This expedited review and notice is issued and published in accordance with section 751(a)(1) and 777(i)(1) of the Act (19 U.S.C. 1675(a)(1) and 19 U.S.C. 1677(f)(i)).

Dated: October 15, 2004.
Jeffrey A. May,
Acting Assistant Secretary for Import Administration.

[FR Doc. E4-2787 Filed 10-20-04; 8:45 am]

BILLING CODE 3510-DS-P